FEDERAL COMMUNICATIONS COMMISSION

47 CFR Part 73

[DA 01-402, MM Docket No. 00-215; RM-9994]

Radio Broadcasting Services; Aspen, CO

AGENCY: Federal Communications Commission.

ACTION: Final rule.

SUMMARY: The Commission grants a petition filed by Roaring Forks Broadcasting, Inc., requesting the allotment of Channel 228A at Aspen, Colorado, as the community's third local FM transmission service. See 65 FR 67691 (November 13, 2000). Channel 228A can be allotted at Aspen, Colorado, at coordinates 39-11-24 NL and 106-49-06 WL, consistent with the minimum distance separation requirements of Section 73.207(b) and the principal community coverage requirements of Section 73.315(a) of the Commission's Rules without a site restriction.

DATES: Effective April 2, 2001.

FOR FURTHER INFORMATION CONTACT: Victoria M. McCauley, Mass Media Bureau, (202) 418-2180.

SUPPLEMENTARY INFORMATION: This is a synopsis of the Commission's Report and Order, MM Docket No. 00-215 adopted February 7, 2001, and released February 16, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b) the FM Table of Allotments under Colorado is amended by adding Channel 228A at Aspen.

Federal Communications Commission.
John A. Karousos,
Chief, Allocations Branch, Policy and Rules Division, Mass Media Bureau.

[FR Doc. 01-4911 Filed 2-28-01; 8:45 am]

BILLING CODE 6712-01-U